DEPARTMENT OF THE INTERIOR

Bureau of Land Management

[LLNVS00000 L19200000.PH0000 LRSNCI530800 241A; 10-08807; MO#4500012623; TAS: 14X1109]

Notice of Intent To Prepare a Recreation Area Management Plan, a Comprehensive Transportation and Travel Management Plan for the Las Vegas Field Office, Nevada and Associated Environmental Impact Statement

AGENCY: Bureau of Land Management, Interior.

ACTION: Notice of Intent.

SUMMARY: In compliance with the National Environmental Policy Act of 1969, as amended, and the Federal Land Policy and Management Act of 1976, as amended, the Bureau of Land Management (BLM) Las Vegas Field Office, Las Vegas, Nevada, intends to prepare a Recreation Area Management Plan (RAMP), Comprehensive Transportation and Travel Management (CTTM) Plan with an associated Environmental Impact Statement (EIS) for the Las Vegas Field Office and by this notice is announcing the beginning of the scoping process to solicit public comments and identify issues.

DATES: This notice initiates the public scoping process for the RAMP/CTTM with associated EIS. Comments on issues may be submitted in writing until March 29, 2011. The date(s) and location(s) of any scoping meetings will be announced at least 15 days in advance through local media and the BLM Web site at: http://www.blm.gov/nv/st/en/fo/lvfo.html. In order to be included in the Draft EIS, all comments must be received prior to the close of the 30-day scoping period or 30 days after the last public meeting, whichever is later. We will provide additional opportunities for public participation upon publication of the Draft RAMP/CTTM/EIS.

ADDRESSES: You may submit comments on issues and planning criteria related to the Las Vegas RAMP/CTTM/EIS using any of the following methods:

• Web site: http://www.blm.gov/nv/st/en/fo/lvfo.html;

• Fax: 702-515-5023;

• Mail: BLM Las Vegas Field Office, RAMP/CTTA/EIS, 4701 North Torrey Pines Drive, Las Vegas, Nevada 89130-2301; and

• E-mail: LVFO_RAMPS@blm.gov.

Documents pertinent to this proposal may be examined at the Southern Nevada District, Las Vegas Field Office.

FOR FURTHER INFORMATION CONTACT: For further information and/or to have your name added to the mailing list, contact Marilyn Peterson, Project Manager, telephone 702-515-5054, or e-mail LVFO_RAMPS@blm.gov.

SUPPLEMENTARY INFORMATION: The Las Vegas Resource Management Plan recommended the completion of the RAMP to provide more specific management direction. The CTTM will address transportation and travel issues in the Las Vegas Field Office. The RAMP will direct implementation of recreation and CTTM decisions. The planning area is located in Clark County, Nevada, and encompasses approximately 3,374,519 acres of public land. The purpose of the public scoping process is to determine relevant issues that will influence the scope of the environmental analysis, including alternatives, and guide the planning process. Preliminary issues for the planning area have been identified by BLM personnel; Federal, State, and local agencies; and other stakeholders. These issues include:

• How will cultural and natural resources be preserved for current and future generations?

• How to manage recreation in a manner that is compatible with the plans and needs of Native American tribes and other local, State, and Federal agencies?

• How will the RAMP/CTTM be responsive to continually changing conditions, stemming primarily from an increasing urban interface?

• How will visitors' activities be managed in a manner that protects the cultural and natural resources while providing reasonable access?

• What facilities and infrastructure will be needed to provide visitor services, information/interpretation, and administration of recreation opportunities?

• How will the RAMPS/CTTM integrate with other Federal, regional and local plans?

• How will CTTM designations be incorporated into long-term goals for recreation and other resource needs?

• What effect will rights-of-way authorizations and land sales have on recreation opportunities?

• Where can urban trails connect to Federal lands; and

• How should the Las Vegas Perimeter Open Space and Trail concept, located primarily on BLM lands, be considered?

You may submit comments on issues and planning criteria in writing to the BLM at public scoping meetings or you may submit them to the BLM using one of the methods listed in the ADDRESSES section of this notice. To be most helpful, you should submit comments within the 60-day public comment period. Before including your address, phone number, e-mail address, or other personal identifying information in your comment, you should be aware that the entire comment—including personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate the identified issues, to be addressed in the plan, and will place them into one of three categories:

1. Issues to be resolved in the plan;

2. Issues to be resolved through policy or administrative action; or

3. Issues beyond the scope of this plan.

The BLM will provide an explanation in the Draft RAMP/CTTM/EIS as to why an issue is placed in category 2 or 3. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: Renewable energy, lands and realty, minerals management, outdoor recreation, air resources, visual resources, vegetation, cultural resources, paleontology, botany, special status species, wildlife and fisheries, hydrology, sociology and economics.

Authority: 40 CFR 1501.7; 43 CFR 1610.2 and 8342.1-2.

Robert B. Ross, Jr.,
Manager, Las Vegas Field Office.

[FR Doc. 2011-1902 Filed 1-27-11; 8:45 am]

BILLING CODE 4310-HC-P